NATIONAL AERONAUTICS AND SPACE ADMINISTRATION

14 CFR Part 1204

[Docket Number—NASA-2015-0009]

RIN 2700-AE24

NASA Protective Services Enforcement

AGENCY: National Aeronautics and Space Administration (NASA).

ACTION: Direct final rule.

SUMMARY: This direct final rule makes nonsubstantive changes to NASA's traffic enforcement regulations to correct citations and to clarify the regulation's scope, policy, responsibilities, procedures, and violation descriptions. The revisions to this rule are part of NASA's retrospective plan under E.O. 13563 completed in August 2011.

DATES: This rule is effective January 12, 2016 without further action, unless adverse comments are received by December 14, 2015. If adverse comments are received, NASA will publish a timely withdrawal of the rule in the Federal Register.

ADDRESSES: Comments must be identified with RIN 2700-AE24 and may be sent to NASA via the Federal E-Rulemaking Portal: http://www.regulations.gov. Follow the online instructions for submitting comments. Please note that NASA will post all comments on the Internet with changes, including any personal information provided.

FOR FURTHER INFORMATION CONTACT: Charles Lombard, 202-358-0891, charles.e.lombard.nasa.gov.

SUPPLEMENTARY INFORMATION:

I. Direct Final Rule and Significant Adverse Comments

NASA has determined this rulemaking meets the criteria for a direct final rule because it makes nonsubstantive changes to correct citations and clarifies the scope, policy, responsibilities, procedures, and violations described in NASA's traffic enforcement regulations. No opposition to these changes and no significant adverse comments are expected. However, if NASA receives significant adverse comments, it will withdraw this direct final rule by publishing a notice in the Federal Register. A significant adverse comment is one that explains: (1) Why the direct final rule is inappropriate, including challenges to the rule's underlying premise or approach; or (2) why the direct final rule will be ineffective or unacceptable without a change. In determining whether a comment necessitates withdrawal of this direct final rule, NASA will consider whether it warrants a substantive response in a notice and comment process.

II. Background

NASA published a final rule in the Federal Register at 79 FR 54902 on September 15, 2014, to add subpart 11, Enforcing Traffic Laws at NASA Centers and Component Facilities, that establishes traffic enforcement regulations, authorities, and procedures at all NASA Centers and component facilities. NASA is amending these regulations to make nonsubstantive changes to correct citations and to clarify the scope, policy, responsibilities, procedures, and violations described in these regulations. Amendments to this rule aligns Part 1204 with NASA objectives in the protection of its people and property. The revisions to this rule are part of NASA's retrospective plan under E.O. 13563 completed in August 2011. NASA's full plan can be accessed on the Agency's open Government Web site at http://www.nasa.gov/feature/compliance-and-other-documents.

III. Regulatory Analysis Section

Regulatory Flexibility Act

The Regulatory Flexibility Act (5 U.S.C. 601 et seq.) generally requires an agency to conduct a regulatory flexibility analysis of any rule subject to notice and comment rulemaking requirements, unless the agency certifies that the rule will not have a significant economic impact on a substantial number of small entities. This rule would not have a significant economic impact on a substantial number of small entities because this rule only pertains to NASA employees.

Executive Order 12866 and Executive Order 13563

Executive Orders 12866 and 13563 direct agencies to assess all costs and benefits of available regulatory alternatives and, if the regulation is necessary, to select the regulatory approach that maximizes net benefits. This rule is not a significant regulatory action under section 3(f) of Executive Order 12866, Regulatory Planning and Review, because this rule relates solely to the internal operations of NASA. Therefore, the Office of Management and Budget did not review this rule.

Paperwork Reduction Act

The Paperwork Reduction Act (44 U.S.C. chapter 35) does not apply to this rule because it does not contain any information collection requirement that requires approval of the Office of Management and Budget.

Small Business Regulatory Enforcement Fairness Act

This rule relates to agency management or personnel, and therefore the Small Business Regulatory Enforcement Fairness Act of 1996 (5 U.S.C. 801 et seq.) does not cover the rule.

Executive Order 13132, Federalism

This rule will not have substantial direct effects on the states, on the relationship between the national Government and the states, or on the distribution of power and responsibilities among the various levels of government. Therefore, in accordance with Executive Order 13132, Federalism, NASA has determined that the rule does not have sufficient federalism implications to warrant the preparation of a federalism summary impact statement.

Unfunded Mandates Reform Act

For the purposes of the Unfunded Mandates Reform Act of 1995 (2 U.S.C. chapter 25, subchapter II), this rule would not significantly or uniquely affect small governments and would not result in increased expenditures by state, local, and tribal governments, or by the private sector, of $100 million or more (as adjusted for inflation) in any one year.

List of Subjects in 14 CFR Part 1204

Federal buildings and facilities, Security measures.

Accordingly, under the authority of the National Aeronautics and Space Act, as amended, (51 U.S.C. 20113), 5 U.S.C. 301, and 18 U.S.C. 799, NASA amends 14 CFR part 1204 as follows:

PART 1204—ADMINISTRATIVE AUTHORITY AND POLICY

Subpart 11—Enforcing Traffic Laws at NASA Centers and Component Facilities

1. The authority for subpart 11 is revised to read as follows:

Authority: The National and Commercial Space Program, 51 U.S.C. 20132 and 20133; 5 U.S.C. 301, and 18 U.S.C. 799.

2. Revise § 1204.1100 to read as follows:

§ 1204.1100 Scope of subpart.

This subpart establishes policies pursuant to the requirements of National and Commercial Space Programs (51 U.S.C.) authorizing the NASA Administrator to establish such security requirements, restrictions, and safeguards as he deems necessary in the interest of national security, under 5 U.S.C. 301, and 18 U.S.C. 799, providing for the imposition of fines and imprisonment for violating NASA regulations for the protection and security of NASA assets or assets that are in NASA's custody. The provisions of this subpart apply to all NASA installations, including NASA Headquarters, NASA Centers, and component facilities. NASA installations refers to all NASA-owned, controlled, or leased property, with exclusive or concurrent Federal jurisdiction, including non-contiguous or unfenced areas and including areas otherwise open to the public at large. These provisions are also applicable to all persons who are in or on a NASA installation over which the United States exercises exclusive or concurrent legislative jurisdiction.

3. Revise § 1204.1101 to read as follows:

§ 1204.1101 Policy.

(a) It is NASA policy that an effective, standardized, and comprehensive traffic safety program be established and maintained at all NASA Centers, and component facilities, as prescribed in NASA Procedural Requirement (NPR) 8715.C, NASA General Safety Program Requirements. A traffic safety program is essential for the protection and security of NASA laboratories, stations, bases, or other facilities of NASA's aircraft, missiles, spacecraft, or similar vehicles or part thereof and of NASA's real and personal property, including property in the custody of NASA contractors and subcontractors.

(b) To ensure a safe and secure workplace and to provide better for preservation of life and property, all persons on or in a NASA installation or component facility shall comply with the vehicular and pedestrian traffic requirements of the installation per this Subpart.

(c) Vehicular and pedestrian traffic. The following requirements apply to the drivers or all vehicles on or in NASA-owned, controlled, or leased property:

(1) A driver shall be in possession of a current and valid state- or territory-issued driver's license and vehicle registration, and the vehicle shall display all current and valid tags and licenses required by the jurisdiction in which it is registered.

(2) A driver who has had his or her privilege or license to drive suspended or revoked by any state or territory shall not drive any vehicle in or on such property during such period of suspension or revocation.

(3) Drivers shall drive in a careful and safe manner at all times and shall comply with the signals and directions of security personnel and other authorized individuals; all posted traffic signs, including speed limits; and all rules implemented under section 1204.1102.

(4) Drivers shall not block entrances, driveways, walks, loading platforms, or fire hydrants.

(5) Drivers shall not park without authority, park in unauthorized locations or in locations reserved for other persons, park continuously in excess of 18 hours without permission, or park in any manner contrary to the direction of posted signs.

(d) A copy of this subpart shall be posted in an appropriate place at each NASA Center or component facility.

4. In § 1204.1102, revise paragraph (a) to read as follows:

§ 1204.1102 Responsibilities.

(a) Consistent with this subpart and applicable statutes, Center Directors of NASA installations and the Executive Director for Headquarters Operations, over which the United States has exclusive or concurrent legislative jurisdiction, are delegated the authority to establish specific vehicular and pedestrian traffic rules and regulations for their installations; to specify maximum punishments for violating such rules and regulations; and to issue citations, including District Court Violation Notices to persons who violate such rules and regulations.

* * * * *

5. Revise § 1204.1103 to read as follows:

§ 1204.1103 Procedures.

The Center Directors and the Executive Director for Headquarters Operations shall issue local policies and procedural requirements, which will implement this regulation for their respective NASA Centers and component facilities.

6. Revise § 1204.1104 to read as follows:

§ 1204.1104 Violations.

As authorized by and consistent with 18 U.S.C. 799, local policies and procedural requirements issued under section 1204.1103 may provide for punishments for offenses, which shall be classified in accordance with 18 U.S.C. 3559(a)(6)-(9). A person found in violation, in or on a NASA installation, of any vehicular or pedestrian traffic law, or local installation vehicular or pedestrian traffic rule or regulation made applicable to the installation under the provisions of this subpart, is subject to punishment as provided for by the applicable local policies and procedural requirements that a Center Director or the Executive Director for Headquarters Operations has issued under section 1204.1102 and in accordance with section 1204.1103.

Nanette Jennings,
NASA Federal Register Liaison Officer.

[FR Doc. 2015-28813 Filed 11-12-15; 8:45 am]

BILLING CODE 7510-13-P